DEPARTMENT OF COMMERCE

Economic Development Administration

Submission for OMB Review; Comprehensive Economic Development Strategy (CEDS)—Comment Request

ACTION: Extension of a currently approved collection, comment request.

The Department of Commerce (DoC) has submitted to the Office of Management and Budget (OMB) for clearance the following proposal for collection of information under provisions of the Paperwork Reduction Act (44 U.S.C. Chapter 35).

Agency: Economic Development Administration (EDA).

Title: Comprehensive Economic Development Strategy Guidelines.

Agency Form Number: Not Applicable.

OMB Approval Number: 0610-0093.

Type of Request: Extension of a currently approved collection.

Burden: 34,430 hours.

Average Hours Per Response: (1) Initial CEDS for Districts and other EDA supported Planning Organizations—242 hours; (2) CEDS Document for non-districts and non-EDA supported organizations—27 hours; (3) Annual CEDS Report—52 hours; and (4) CEDS Update—77 hours.

Number of Respondents: Approximately 640 respondents.

Needs and Uses: The Economic Development Administration (EDA) provides investments that will help our partners across the nation (states, regions and communities) create wealth and minimize poverty by promoting a favorable business environment to attract private capital investment and higher skill, higher wage jobs through world-class capacity building, infrastructure, business assistance, research grants and strategic initiatives.

Information gathered through CEDS is needed by EDA to ensure that areas served by an EDA-supported planning organization have or are developing a continuous community-based planning process and have thoroughly thought out what type of economic development is needed in the area to alleviate unemployment, underemployment, and/or depressed incomes. This information is required under the Public Works and Economic Development Act of 1965, as amended, including the comprehensive amendments by the Economic Development Administration Reform Act of 1998, Public Law 105-393, (PWEDA). Additionally, information is used by EDA to determine: if statutory requirements are met on eligibility for projects for public works and economic adjustment (except for strategy/planning); district designation requirements; and if planning requirements are met. CEDS is the foundation for most of EDA's programs. CEDS is a continuous, broad based and diverse process put in place to describe and to address economic distress through a particular economic development project(s) activity(es).

Affected Public: State, local or Tribal Government and not-for profit organizations.

Frequency: One time for Initial Document, Annual Report, and Updates are due every five (5) years for districts and other EDA-supported planning organizations.

Respondent's Obligation: Required to obtain or retain benefits.

OMB Desk Officer: David Rostker, (202) 395-7340.

Copies of the above information collection proposal can be obtained by calling or writing Diana Hynek, Departmental Paperwork Clearance Officer, (202) 482-0266, U.S. Department of Commerce, Room 6625, 14th and Constitution Avenue, NW., Washington, DC 20230, or via Internet at dhynek@doc.gov.

Written comments and recommendations for the proposed information collection should be sent within 30 days of publication of this notice to David Rostker, OMB Desk Officer, Room 10202, New Executive Office Building, Washington, DC 20503.

Dated: October 4, 2002.
Madeleine Clayton,
Management Analyst, Office of the Chief Information Officer.

[FR Doc. 02-25697 Filed 10-8-02; 8:45 am]

BILLING CODE 3510-34-P